DEPARTMENT OF COMMERCE

National Institute of Standards and Technology

[Docket 051229349-5349-01]

Establishment of a Laboratory Accreditation Program for Radiation Detection Instruments Under National Voluntary Laboratory Accreditation Program

AGENCY: National Institute of Standards and Technology, Commerce.

ACTION: Notice.

SUMMARY: The National Institute of Standards and Technology (NIST) publishes this notice to announce that it is establishing an accreditation program for laboratories that perform testing of radiation detection instruments. This program will provide for the accreditation of laboratories that test radiation detection instruments using standards developed by the American National Standards Institute (ANSI) and the Homeland Security Instrumentation (HSI) and Radiation Protection Instrumentation (RPI) groups.

DATES: Laboratories interested in seeking accreditation that will allow them to be considered for Department of Homeland Security recognition should contact NVLAP immediately.

ADDRESSES: National Voluntary Laboratory Accreditation Program, 100 Bureau Drive/MS 2140, Gaithersburg, MD 20899-2140.

FOR FURTHER INFORMATION CONTACT: Betty Ann Torres, Senior Program Manager, NVLAP, 100 Bureau Drive/MS2140, Gaithersburg, MD 20899-2140, Phone: (301) 975-8446 or e-mail: betty.torres@nist.gov. Information regarding NVLAP and the accreditation process can be viewed at http://www.nist.gov/nvlap.

SUPPLEMENTARY INFORMATION:

Background

The United States Department of Homeland Security (DHS) has requested that NIST establish a laboratory accreditation program for laboratories that test radiation detection instruments used in homeland security applications. In response to the request by DHS, National Voluntary Laboratory Accreditation Program (NVLAP) is establishing an accreditation program for laboratories that test radiation detection instruments.

This notice is issued in accordance with the NVLAP procedures and general requirements, found in title 15, Part 285 of the Code of Federal Regulations.

Technical Requirements for the Accreditation Process

NVLAP accreditation criteria are established in accordance with the Code of Federal Regulations (CFR, title 15, Part 285), NVLAP Procedures and General Requirements. NVLAP is in full conformance with the standards of the International Organization for Standardization (ISO) and the International Electrotechnical Commission (IEC), including ISO/IEC 17025.

Accreditation is granted to a laboratory following successful completion of a process, which includes submission of an application and payment of fees by the laboratory, an on-site assessment by technical experts, resolution of any deficiencies identified during the on-site assessment, and participation in proficiency testing. The accreditation is formalized through issuance of a Certificate of Accreditation and Scope of Accreditation.

NVLAP provides an unbiased, third-party evaluation and recognition of competence. NVLAP accreditation signifies that a laboratory has demonstrated that it operates in accordance with NVLAP management and technical requirements pertaining to quality systems; personnel; accommodation and environment; test and calibration methods; equipment; measurement traceability; sampling; handling of test and calibration items; and test and calibration reports.

NVLAP accreditation does not imply any guarantee (certification) of laboratory performance or test/calibration data. NVLAP accreditation is a finding of laboratory competence.

PRA Clearance

This action contains a collection of information requirements subject to review and approval by the Office of Management and Budget (OMB) under the Paperwork Reduction Act (PRA) of 1995. Collection activities for National Voluntary Laboratory Accreditation Program are currently approved by the OMB under control number 0693-0003. Notwithstanding any other provision of the law, no person is required to respond to, nor shall any person be subject to a penalty for failure to comply with a collection of information unless it displays a currently valid OMB Control Number.

Executive Order 12866

This action has been determined to be not significant under Executive Order 12866.

Dated: January 10, 2006.
Hratch G. Semerjian,
Deputy Director.

[FR Doc. E6-413 Filed 1-13-06; 8:45 am]

BILLING CODE 3510-13-P